DEPARTMENT OF HOUSING AND URBAN DEVELOPMENT

[Docket No. FR-4757-N-01]

Notice of Funding Availability (NOFA) for the Operation Lead Elimination Action Program Fiscal Year 2002

AGENCY: Healthy Homes and Lead Hazard Control, Office of the Secretary.

ACTION: Notice of funding availability.

SUMMARY: Purpose of the NOFA. The purpose of the Operation Lead Elimination Action Program (LEAP) is to leverage private sector resources to eliminate lead poisoning as a major public health threat to young children.

Available Funds: $6.5 million.

Eligible Applicants: Not-for-profit and for-profit organizations and entities.

DATES: Application Due Date: October 31, 2002.

ADDITIONAL INFORMATION:

I. Application Due Date, Application Kits, Further Information, and Technical Assistance

Application Due Date. Submit your completed application (an original and four copies) to HUD, October 31, 2002, at the address shown below.

Address for Submitting Applications. The address for mailed applications is: Department of Housing and Urban Development, Office of Healthy Homes and Lead Hazard Control, 451 Seventh Street, SW, Room P3206, Washington, DC 20410.

Note New Security Procedures. HUD has implemented new security procedures that apply to application submission. Please read the following instructions carefully and completely. HUD's new policy is: No hand delivered applications will be accepted. Applications sent to the Robert C. Weaver HUD Headquarters Building may only be shipped using DHL, Falcon Carrier, Federal Express (FedEx), United Parcel Service (UPS), or the United States Postal Service (USPS). All mailed applications must be postmarked on or before midnight of their due date and received within 15 days of the due date. All applicants who mail applications must have a Certificate of Mailing (USPS Form 3817) as their documentary evidence that the application was filed on time.

Applications Sent by Overnight/Express Mail Delivery to HUD Headquarters. If your application is sent by overnight delivery or express mail, your application will be timely filed if it is received before or on the application due date, or when you submit documentary evidence that your application was placed in transit with the overnight delivery/express mail service by no later than the application due date. Delivery must be made during HUD Headquarters business hours, between 8:30am and 5:30pm, Eastern Time, Monday through Friday.

For Application Kits and NOFA User Guide. You may obtain an application kit by calling the NOFA Information Center at 1-866-483-5327 (HUD-LEAP). Persons with speech or hearing impairments may call the Center's TTY number at 1-800-HUD-2209. When requesting an application kit, please refer to the Operation Lead Elimination Action Program (LEAP). Please be sure to provide your name, address (including zip code), and telephone number (including area code).

HUD is pleased to provide you with instructions for applying for this HUD program. Please note that if there is a discrepancy between information provided in the application kit and the information provided in the published NOFA, the information in the published NOFA prevails. Therefore, please be sure to review your application submission against the requirements in the NOFA.

For Further Information and Technical Assistance. You may contact Ellis G. Goldman, Director, Lead Hazard Control Grants Division, Office of Healthy Homes and Lead Hazard Control, at the address to which applications are to be submitted; telephone (202) 755-1785, extension 112 (this is not a toll-free number). If you are a hearing- or speech-impaired person, you may reach the above telephone numbers via TTY by calling the toll-free Federal Information Relay Service at 1-800-877-8339.

II. Authority, Available Funding, and Amount Allocated

(A) The Operation Lead Elimination Program is authorized by HUD's FY 2002 Appropriation approved November 26, 2001 (Pub. L. 107-73).

(B) Available Funding. $6.5 million will be available for the FY 2002 Operation Lead Elimination Action Program (LEAP). Grants of 24 months duration will be awarded on a competitive basis following evaluation of all proposals according to the rating factors described in this NOFA. HUD anticipates that approximately 6-10 grants will be awarded.

(C) Allocation of Funds/Grant Awards. Operation LEAP will aggressively pursue additional private sector resources with the goal of securing the resources needed to eliminate lead-based paint hazards in housing. Resources generated by awardees must be used and/or distributed to assist National, State and local entities actively committed to lead hazard control in residential structures. All resources generated will be provided to state and local government and non-government entities that possess the requisite skills, certifications, and capacity to utilize these resources to conduct lead hazard control/abatement related activities in low-income privately owned rental or owner occupied housing containing lead-based paint hazards. All allocation decisions will be carried out with prior approval of the HUD Office of Healthy Homes and Lead Hazard Control.

III. Program Description, Eligible Applicants, Statutory Requirements, Eligible Activities, Strategies/Approaches, Support Elements, and Ineligible Activities

(A) Program Description

Operation LEAP funds will be used to support non-profit and for-profit entities with substantial fund raising and/or leveraging skills to use those skills to mobilize substantial private sector resources for addressing lead hazards in housing. HUD is particularly looking for innovative or creative regional or nationwide fund raising and/or leveraging and mobilization strategies that can yield large amounts of contributions in a two-year time frame and also increase awareness of lead hazards and abatement measures in the home. Grants will be awarded to those entities that are able to demonstrate the ability to generate substantial private sector resources which can be used toward lead abatement programs and efforts, based upon the responses provided in the Factors for Award described below.

LEAP funds may also be used to eliminate lead-based paint hazards in low-income privately owned housing, which supplements the National strategy as defined by Title X of the Housing and Community Development Act of 1992 (42 U.S.C. 4851 et. seq.).

(B) Eligible Applicants

To be eligible to apply for funding under this program, the applicant must be a tax-exempt (501(c)), other non-profit or for-profit entity or firm.

(C) Eligible Activities

Activities that you may conduct for the purposes of developing a national or regional (multi-state) strategy designed to leverage or mobilize resources from the private sector may include but are not limited to:

(1) Recruiting and placing appropriate staff skilled in leveraging private sector resources;

(2) Identifying innovative approaches for mobilizing resources and coordinating activities among a number of diverse organizations in both the public and private sector;

(3) Providing all necessary administrative and indirect support, including rent, equipment, materials, travel expenses and logistics, and subcontractors/consultants necessary to carry out grant activities; and

(4) Conducting fund raising activities which will result in increased funding resources for use in carrying out lead hazard abatement and control activities in low-income privately owned or owner occupied housing with lead-based paint hazards.

(5) Other activities that may be carried out include: (a) Performing dust, paint or soil testing, hazard screens, inspections, and risk assessments of eligible housing constructed before 1978 to determine the presence of lead-based paint and/or lead hazards from paint, dust, or soil.

(a) Conducting lead hazard control, which may include: interim control of lead based paint hazards in housing (which may include specialized cleaning techniques to address lead dust); and abatement of lead-based paint hazards, including soil and dust, by means of removal, enclosure, encapsulation, or replacement methods. Unless there are only a few surfaces coated with lead paint, complete abatement of all lead-based paint or lead-contaminated soil is not usually acceptable as a cost-effective strategy unless justification is provided and subsequently approved by HUD. Abatement of lead-contaminated soil should be limited to areas with bare soil in the immediate vicinity of the structure, i.e., drip line or foundation of the structure being treated, and children's play areas. All hazard control activities must comply with 24 CFR part 35, subpart R, the HUD Guidelines for the Evaluation and Control of Lead-Based Paint Hazards in Housing and all applicable Federal, State and local regulations; in the case of a conflict between any of the above, the more stringent shall apply.

(b) Carrying out temporary relocation of families and individuals during the period in which lead hazard control is conducted and until the time the affected unit receives clearance for re-occupancy.

(c) Performing blood lead testing and air sampling to protect the health of the hazard control workers, supervisors, and contractors.

(d) Undertaking minimal housing rehabilitation activities that are specifically required to carry out effective hazard control, and without which the hazard control could not be completed and maintained. Operation LEAP grant funds may be used for lead hazard control work done in conjunction with other housing rehabilitation programs. HUD strongly encourages integration of this grant program with housing rehabilitation, weatherization, and other energy conservation activities.

(e) Conducting clearance dust-wipe testing and associated laboratory analysis.

(D) Strategies/Approaches

The applicant is encouraged to employ creativity and initiative in achieving the objective of the program—the leverage of private sector resources to increase local and regional lead hazard control measures through a variety of means. Examples of possible strategies/approaches include but are not limited to the following:

(1) Enlist the support and resource commitment of financial institutions, foundations, private industry, and others to make residential housing lead-safe and eliminate lead poisoning as a public health threat to children.

(2) Solicit the support of national building materials providers, building component manufacturers, and housing-related national retail outlets to donate money or materials to lead hazard control programs in housing and health departments, landlords and owner-occupants to eliminate lead-based paint hazards in privately owned low-income dwellings. For example: a window, wallboard, or paint manufacturer/retailer could donate or coordinate the donation and distribution of windows to lead-based paint and/or rehabilitation projects throughout the country.

(3) Form partnerships with banks or other mortgage institutions willing to provide no or low-interest home improvement loans to finance lead hazard control activities and abatement measures among low-income recipients who would not otherwise be served. By participating, banks could fulfill a major element of their responsibilities under the Community Reinvestment Act.

(4) Create a national clearinghouse for facilitating the coordination and distribution of donated building materials such as windows, trim molding, paint, etc. to local projects involved in lead hazard control programs.

(5) Identify and facilitate the availability and use of temporary relocation facilities for families who need to move out of their dwellings while lead hazard control work is being undertaken. For example, hotel chains, colleges, and other lead-safe sites could be contacted to make housing for the temporary relocation of families available during lead hazard control.

(6) Work with landlord and tenant groups to form consortia or otherwise engage landlords and owner-occupants to enroll their eligible housing units in local lead hazard control or rehabilitation programs. The applicant should obtain commitments from landlords to provide matching resources for work to be done on their units. For example, LEAP could offer landlords grant funds for replacement windows if the landlords contribute the cost of additional repairs such as basic system upgrades, or other rehabilitation work including painting and maintenance that is associated with lead hazard control.

(7) Create a nationwide “lead-safe unit” identification seal of approval program that would be used by landlords and others to market lead-safe units. Housing units that safely complete hazard control activities, or housing units that pass a lead clearance test, would receive a lead-safe unit seal.

(8) Promote homebuilder, remodelers, or contractor associations to coordinate efforts to reduce lead hazards by contributing technical assistance, training, presentations and materials and/or labor to lead hazard control efforts.

(9) Encourage landscaping firms, nurseries, and landscape architects to contribute lead-safe soil, mulch, and other forms of vegetation cover and shrubbery designed to mitigate lead contamination of soil around the exterior/perimeter and play areas of affected housing units.

(10) Work with faith-based and other community-based organizations that are committed to improving the quality of life within the community.

(11) Provide training for significant numbers of trades people to implement lead safe work practices, such as window replacement and weatherization work.

(12) Expand dust testing and clearance testing, especially in high-risk communities.

(E) Support Elements

(1) Administrative costs: Up to 10 percent of the HUD funds may be used for administration. Such costs would include the costs associated with completing HUD reports, accounting and bookkeeping expenses, costs associated with obtaining audits, and other direct grant management expenses (see Appendix A for definition of Administrative Costs applicable to this program).

(2) Up to 20 percent of the leveraged funds may be used for training, lead hazard awareness and other public education, outreach and education initiatives.

(F) Ineligible Activities

You may not use grant funds for any of the following:

(1) Purchase of real property.

(2) Chelation or other medical treatment costs related to children with elevated blood lead levels.

(3) Lead hazard control activities in publicly owned housing, or project-based Section 8 housing.

(4) Capital expenditures in excess of $5,000 per unit cost.

IV. Program Requirements

Period of Performance

The period of performance is 24 months. Grantees will be expected to report on program progress on a quarterly basis in a format provided by HUD. HUD reserves the right to approve no-cost time extensions for a period of up to 24 months based upon the submission of adequate justification by the grantee.

Statutory Requirements

To be eligible for funding under this NOFA, the applicant must meet all Federal statutory and regulatory requirements applicable to this program. The specific requirements will be identified in the grant agreement for successful applicants. In addition, you will be required to comply with all State and local statutes, regulations, or other applicable requirements.

Threshold Requirements

(1) Compliance with Fair Housing and Civil Rights Laws

(a) All applicants and their sub-recipients must comply with all Fair Housing and civil rights laws, statutes, regulations, and executive orders as enumerated in 24 CFR 5.105(a).

(b) You may not apply for assistance under this NOFA if you, the applicant:

(i) Have been charged with a systemic violation of the Fair Housing Act alleging on-going discrimination;

(ii) Are a defendant in a Fair Housing Act lawsuit filed by the Department of Justice alleging an ongoing pattern or practice of discrimination; or

(iii) Have received a letter of non-compliance findings under Title VI, Section 504, or Section 109, and if the charge, lawsuit, or letter of findings has not been resolved to HUD's satisfaction before the application deadline stated in the individual program NOFA.

HUD's decision regarding whether a charge, lawsuit, or a letter of findings has been satisfactorily resolved will be based upon whether appropriate actions have been taken to address allegations of on-going discrimination in the policies or practices involved in the charge, lawsuit, or letter of findings.

(2) Additional Non-discrimination Requirements

You, the applicant, and your sub-recipients must comply with the Americans with Disabilities Act of 1990 (42 U.S.C. 1201 et seq.) and Title IX of the Education Amendments Act of 1972 (20 U.S.C. 1681 et seq).

(3) Affirmatively Furthering Fair Housing

Under section 808(e)(5) of the Fair Housing Act, HUD is obliged to affirmatively further fair housing. HUD requires the same of its grant recipients. If you are a successful applicant, you will have a duty to affirmatively further fair housing opportunities for classes protected under the Fair Housing Act. Protected classes are race, color, national origin, religion, sex, disability or perceived disability, and family status. Unless otherwise instructed in this NOFA, your application must include specific steps to:

(a) Overcome the effects of impediments to fair housing that were identified in the jurisdiction's Analysis of Impediments (AI) to Fair Housing Choice;

(b) Remedy discrimination in housing.

(4) Promote fair housing rights and fair housing choice

Further, you, the applicant, have a duty to carry out the specific activities provided in your responses to the NOFA rating factors that address affirmatively furthering fair housing.

(5) Conducting Business in Accordance with Core Values and Ethical Standards

Entities subject to 24 CFR parts 84 and 85 (most non-profit organizations and State, local, and tribal governments or government agencies or instrumentalities who receive Federal awards of financial assistance) are required to develop and maintain a written code of conduct (see §§ 84.42 and 85.36(b)(3)). Consistent with regulations governing this program, your code of conduct must: prohibit real and apparent conflicts of interest that may arise among officers, employees, or agents; prohibit the solicitation and acceptance of gifts or gratuities by your officers, employees, and agents for their personal. If awarded assistance under this NOFA, you will be required, prior to entering into a grant agreement with HUD, to submit a copy of your code of conduct and describe the methods you will use to ensure that all officers, employees, and agents of your organization are aware of your code of conduct.

(6) Environmental Policy

The application shall contain an assurance that the applicant agrees to assist HUD in complying with 24 CFR part 50 and that, where LEAP funds are proposed to be used for eligible physical activities, the applicant shall:

(a) Supply HUD with all available relevant information necessary for HUD to perform for each property any environmental review required by 24 CFR part 50;

(b) Carry out mitigating measures required by HUD or select alternate eligible property; and

(c) Not rehabilitate, convert, or repair property, nor commit or expend HUD or HUD-leveraged funds for these program activities with respect to any eligible property repair, until HUD approval of the property is received.

The instructions for this assurance and certification are located in “Section 2—Preparing Your Application” of the application kit.

(7) Coastal Barrier Resources Act

Pursuant to the Coastal Barrier Resources Act (16 U.S.C. 3501), you may not use grant funds for properties located in the Coastal Barrier Resources System.

(8) Flood Disaster Protection Act

Under the Flood Disaster Protection Act of 1973 (42 U.S.C. 4001-4128), you may not use grant funds for lead-based paint hazard control of a building or manufactured home that is located in an area identified by the Federal Emergency Management Agency (FEMA) as having special flood hazards unless:

(a) The community in which the area is situated is participating in the National Flood Insurance Program in accordance with the applicable regulations (44 CFR parts 59-79), or less than a year has passed since FEMA notification regarding these hazards; and

(b) Where the community is participating in the National Flood Insurance Program, flood insurance on the property is obtained in accordance with section 102(a) of the Flood Disaster Protection Act (42 U.S.C. 4012a(a)). You are responsible for assuring that flood insurance is obtained and maintained for the appropriate amount and term.

V. Application Selection Process

(A) Award Offers

In the selection process, once available funds have been allocated to meet the requested or negotiated amounts of the top eligible applicants, HUD reserves the right to offer any residual amount as partial funding to the next eligible applicant, provided HUD is satisfied that the residual amount is sufficient to support a viable though reduced effort by such applicant(s). If you are an applicant that is offered a reduced grant amount, you will have a maximum of seven (7) calendar days to accept such a reduced award and a maximum of 30 calendar days after acceptance to submit a revised strategy and budget. If you fail to respond within the seven-day limit, you shall be considered to have declined the award and the award will be offered to the next highest ranked applicant. HUD intends to fund the highest ranked applications within the limits of funding.

(B) Budget

HUD will evaluate your proposal to determine if it is reasonable, clearly justified, and consistent with the intended use of grant funds. HUD is not required to approve or fund all proposed activities. You must thoroughly document and justify all budget categories and costs (Part B of Standard Form 424A).

(C) Factors for Award Used to Evaluate and Rate Applications

The factors for rating and ranking applicants, and maximum points for each factor, are stated below. The maximum number of points to be awarded is 100. Your application must receive a total score of at least 70 points to remain in consideration for funding.

Rating Factor 1: Organizational Capacity (30 points)

(1) Description: This factor addresses your organizational capacity to successfully implement the proposed activities in a timely manner.

(a) Describe the knowledge and experience of the staff responsible for the following functions: Executive Direction, Finance, Marketing, and Program Coordination. The applicant must have sufficient qualified personnel or be able to quickly retain qualified experts or professionals in financial/grant management, marketing, and lead-based paint programs that will allow you to immediately begin your proposed work program and to perform your proposed activities within the two-year period of performance. In your narrative, you should include information about your organization and staff capacity in fund raising and/or leveraging, private sector recruitment, lead-based paint identification and lead hazard control that you have successfully conducted recently (e.g., within the past five years). Include a discussion of staff knowledge and expertise in fund raising, organizational skills, lead hazard control and lead-safe housing. Your discussion on capacity should include the depth and range (depth dealing with the number of persons with available knowledge and expertise, and range dealing with the extent of knowledge and expertise) of your program staff, their experience, commitment of time to the program, salary information, length of time with organization and position titles. Resumes or detailed job announcements for the above key positions must be included as an Appendix with your application. Indicate the percentage of time that key personnel will devote to your proposed project. The Program Coordinator must be dedicated to this effort for a minimum of 75 percent of the time. You may demonstrate capacity by thoroughly describing your prior experience in this type of activity and/or how you will develop the necessary capacity to carry out proposed activities.

(b) Describe your agency or organization's ability to manage grants and leveraged program funds and activities.

(c) Describe the knowledge you and your project participants/partners possess regarding lead poisoning as a public health threat to children, and your experience and/or knowledge of lead-based paint issues and hazard control. Use of staff with more recent, relevant and demonstrated successful experience will result in a higher rating.

Rating Factor 2: Approach (35 points)

(1) Description: This factor addresses the work plan strategy that the applicant intends to follow in meeting the goals and objectives of the program. This work plan strategy should address the following:

(2) Describe the selection process for those organizations that are to conduct or coordinate work activities for lead hazard control, outreach, evaluation, etc. Describe how you intend to involve faith-based and other community-based organizations in your proposed activities.

(3) Describe the proposed strategy for leveraging private sector resources including:

(a) Target audiences/constituencies;

(b) Use of contractors/subgrantees/partners and their method of selection;

(c) Methods of outreach/promotion;

(d) Types of leveraging to be employed;

(e) Proposed use and distribution of funds/resources leveraged;

(f) Overall project management and coordination;

(g) Proposed schedule of activities within the 24-month period of performance.

Rating Factor 3: Leveraging Resources (35 points)

(1) Description: This factor addresses your ability to obtain and use private sector resources or leverage private sector activities that can be combined with HUD and other program resources to achieve program objectives. The applicant should:

(a) Describe what your organization has done in the recent past (e.g., within the past five years) that gives evidence that it has the ability and experience to leverage substantial resources. Describe specific activities, the amount of funds or goods leveraged, and what the leveraged funds were used to support. If you have experience in generating funds or goods for purposes similar to addressing lead paint abatement or control measures, you should describe those activities and the results achieved.

(b) Describe the types of public or private sector commitments, if any, you already have to devote to your LEAP grant program activities, and anticipated future amounts to be generated. Based upon the estimated amount of funding you anticipate leveraging over the life of the award, identify the general geographic locations of the units the increased funding or leveraged goods that will be treated as a result of your work. Also provide an estimate of the number of units that can be expected to be treated as well as the type of treatment to be used. Your description of the location of treatment areas should be sufficient to determine that the units serve low-income persons. Generated resources may include cash or in-kind contributions of services, equipment, or supplies. In evaluating this factor, HUD will consider the extent to which you have established working partnerships, memoranda of understanding and/or firm agreements with other identified entities for the commitment of additional resources. Resources may be provided by any private source, including contributions of investor-owners. However, care should be taken in calculating such contributions when the exact amount is not easily determined. Applicants that do not have such partnerships at the time of application will be required to establish partnerships immediately following notification of grant award. Only contributions that have a stated monetary value with supporting documentation from the contributing organization/entity authorized to make such commitment must sign all the commitments to receive credit in the evaluation for existing resources. Firm established commitments will be rated more highly than applications with commitments that have not yet been established. Applicants that have targeted specific high-risk neighborhoods or geographic locations for leveraging/fund raising and abatement/control activities will receive a higher number of rating points.

(D) Applicant Debriefing

Beginning not less than 30 days after the awards for assistance are announced in the Federal Register, and for at least 120 days after awards for assistance are announced, HUD will provide any requesting applicant with a debriefing on their application. All requests for debriefing must be made in writing or by email by the authorized official whose signature appears on the HUD-424 or his/her successor in office. Submit your request to the person or organization identified as the Contact under the section entitled “Further Information and Technical Assistance.” Information provided to you during your debriefing will include, at a minimum, the final score you received for each rating factor, final evaluator comments for each rating factor, and the final assessment indicating the basis upon which assistance was provided or denied.

(E) Rating Panels

To review and rate applications, HUD may establish panels. These panels may include persons not currently employed by HUD. HUD may include these non-HUD employees to obtain certain expertise and outside points of view, including views from other Federal agencies.

(F) Adjustments to Funding

(1) HUD will not fund any portion of your application that is not eligible for funding under specific program statutory and regulatory requirements; or which does not meet the requirements of this NOFA. Only the eligible portions of your application (including non-duplicative portions) may be funded.

(2) If funds remain after the highest-ranking applications, HUD may fund all or part of the next highest-ranking application in a given program. If you, the applicant, turn down an award offer, HUD will make an offer of funding to the next highest-ranking application.

(G) Performance and Compliance Actions of Grantees

HUD will measure and address the performance and compliance actions of grantees in accordance with the applicable standards and sanctions of their respective state and local programs.

VI. Application Submission Requirements

(A) Applicant Information

(1) Application Format

The application narrative response to the Rating Factors are limited to a maximum of 15 pages. Your response must be typewritten on one (1) side only on 8 ½″ × 11″ paper using a 12-point (minimum) font with not less than ¾″ margins on all sides. Appendices should be referenced and discussed in the narrative response. Materials provided in the appendices should directly apply to the rating factor narrative.

(2) Application Checklist

Your application must contain the items listed in the Checklist and Submission Table of Contents included in Appendix B of this NOFA. These items include the standard forms, certifications, and assurances listed that are applicable to this funding (collectively, referred to as the “standard forms”). The standard forms can be found in Appendix B of this NOFA. The application items required for submission are:

(a) Transmittal Letter that identifies “the applicant” (or applicants) submitting the application, the dollar amount requested, what the program funds are requested for, and the nature of involvement with community-based organizations.

(b) The name, mailing address, telephone number, and principal contact person of “the applicant.” If you have consortium associates, sub-grantees, partners, major subcontractors, joint venture participants, or others contributing resources to your project, you must provide similar information for each of these partners.

(c) Applicant Abstract. Provide an abstract describing the goals and objectives of your proposed program (2 page maximum).

(d) HUD 424, Application for Federal Assistance.

(e) HUD 424-B, Applicant Assurances and Certifications.

(f) HUD 424C, Budget Summary for Competitive Grant Programs.

(g) Standard Form SF-LLL and HUD Form 2880:

(h) Contracts, Memoranda of Understanding or Agreement, letters of commitment or other documentation must describe the proposed roles of agencies, local broad-based task forces, participating faith-based and other community or neighborhood-based groups or organizations, local businesses, and others working with the program. For profit entities and/or firms must clearly demonstrate and document how the lead-based paint hazard identification and control measures will be coordinated with local organizations, State(s) or units of general local government to carry out lead hazard control.

(i) Assurances. All applicants must comply with HUD's policy on assurances as listed in section IV(6) of this NOFA.

(B) Proposed Activities

All applications must, at a minimum, describe the proposed activities in the narrative responses to the rating factors. Your narrative statement must be numbered in accordance with each factor for award (Rating Factors 1 through 3).

VII. Findings and Certifications

(A) Environmental Impact

A Finding of No Significant Impact with respect to the environment was made in accordance with HUD regulations at 24 CFR part 50 that implement section 102(2)(C) of the National Environmental Policy Act of 1969 (42 U.S.C. 4223). The Finding of No Significant Impact remains available for public inspection during regular business in the Office of the Rules Docket Clerk, Office of General Counsel, Room 10276, Department of Housing and Urban Development, 451 Seventh Street, SW, Washington, DC. 20410-0500.

(B) Federalism Impact

Executive Order 13132 (captioned “Federalism”) prohibits, to the extent practicable and permitted by law, an agency from promulgating a regulation that has federalism implications and either imposes substantial direct compliance costs on State and local governments and is not required by statute, or preempts State law, unless the relevant requirements of section 6 of the Executive Order are met. This NOFA does not have federalism implications and does not impose substantial direct compliance costs on State and local governments or preempt State law within the meaning of the Executive Order.

(C) Executive Order 12372, Intergovernmental Review of Federal Programs

Executive Order 12372 was issued to foster intergovernmental partnership and strengthen federalism by relying on State and local processes for the coordination and review of Federal financial assistance and direct Federal development. The Order allows each State to designate an entity to perform a State review function. The official listing of State Points of Contact (SPOC) for this review process can be found at http://www.whitehouse.gov/omb/grants/spoc.html. States not listed on the Web site have chosen not to participate in the intergovernmental review process and, therefore, do not have a SPOC. If your State has a SPOC, you should contact them to see if they are interested in reviewing your application prior to submission to HUD. Please make sure that you allow ample time for this review process when developing and submitting your applications. If your State does not have a SPOC, you may send applications directly to HUD.

(D) Prohibition Against Lobbying Activities

Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65; approved December 19, 1995).

The Byrd Amendment, which is implemented in regulations at 24 CFR part 87, prohibits applicants for Federal contracts and grants from using appropriated funds to attempt to influence Federal executive or legislative officers or employees in connection with obtaining such assistance, or with its extension, continuation, renewal, amendment, or modification. The Byrd Amendment applies to the funds that are the subject of this NOFA. Therefore, applicants must file a certification stating that they have not made and will not make any prohibited payments and, if any payments or agreement to make payments of non-appropriated funds for these purposes have been made, a form SF-LLL disclosing such payments must be submitted.

The Lobbying Disclosure Act of 1995 (Pub. L. 104-65; approved December 19, 1995), which repealed section 112 of the HUD Reform Act, requires all persons and entities who lobby covered executive or legislative branch officials to register with the Secretary of the Senate and the Clerk of the House of Representatives and file reports concerning their lobbying activities.

(E) Accountability in the Provision of HUD Assistance

Section 102 of the Department of Housing and Urban Development Reform Act of 1989 (HUD Reform Act) and the regulations in 24 CFR part 4, subpart A, contain a number of provisions that are designed to ensure greater accountability and integrity in the provision of certain types of assistance administered by HUD. On January 14, 1992 (57 FR 1942), HUD published a notice that also provides information on the implementation of section 102. HUD will comply with the documentation, public access, and disclosure requirements of section 102 with regard to the assistance awarded under this NOFA, as follows:

(1) Documentation and public access requirements

HUD will ensure that documentation and other information regarding each application submitted pursuant to this NOFA is sufficient to indicate the basis upon which assistance was provided or denied. This material, including any letters of support, will be made available for public inspection for a 5-year period beginning not less than 30 days after the award of the assistance. Material will be made available in accordance with the Freedom of Information Act (5 U.S.C. 552) and HUD's implementing regulations at 24 CFR part 15.

(2) Disclosures

HUD will make available for public inspection for 5 years all applicant disclosure reports (HUD Form 2880) submitted in connection with this NOFA. Update reports (also reported on HUD Form 2880) will be made available along with the applicant disclosure reports, but in no case for a period less than three years. All reports, both applicant disclosures and updates, will be made available in accordance with the Freedom of Information Act (5 U.S.C. 552) and HUD's implementing regulations at 24 CFR part 15.

(3) Publication of Recipients of HUD Funding

HUD's regulations at 24 CFR part 4 provide that HUD will publish a Notice in the Federal Register to notify the public of all decisions made by the Department to provide:

(a) Assistance subject to section 102(a) of the HUD Reform Act; and/or

(b) Assistance provided through grants or cooperative agreements on a discretionary (non-formula, non-demand) basis, but that is not provided on the basis of a competition.

(F) Section 103 HUD Reform Act

HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact the HUD Ethics Law Division at (202) 708-3815 (this is not a toll-free number). For HUD employees who have specific program questions, such as whether particular subject matter can be discussed with persons outside HUD, the employee should contact the appropriate Field Office Counsel.

(G) Paperwork Reduction Act Statement

The LEAP information collection requirements contained in this NOFA have been approved by the Office of Management and Budget in accordance with the Paperwork Reduction Act of 1995 (44 U.S.C. 3501-3520), and assigned OMB control number 2539-0015. An agency may not conduct or sponsor, and a person is not required to respond to, a collection of information unless the collection displays a valid control number.

IX. Corrections to Deficient Applications

After the application due date, HUD may not, consistent with its regulations in 24 CFR part 4, subpart B, consider any unsolicited information you may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or Federal holiday, your correction must be received by HUD on the next day that is not a Saturday, Sunday, or Federal holiday.) If the deficiency is not corrected within this time period, HUD will reject the application as incomplete and it will not be considered for funding.

X. Environmental Requirements

Certain activities assisted under this program may be subject to HUD environmental review to the extent required under 24 CFR part 50. An award under the Lead Elimination Action Program (LEAP) does not constitute approval of specific sites where activities that are subject to environmental review may be carried out. Following grant award execution, HUD will be responsible for ensuring that any necessary environmental reviews are completed. You may not rehabilitate, convert or repair property, or commit or expend grant funds or HUD-leveraged funds for any eligible property, until you receive written notification from the appropriate HUD official that HUD has completed its environmental review and the property has been approved. The results of the environmental reviews may require that proposed activities be modified or proposed sites rejected.

Dated: July 29, 2002.
David Jacobs,
Director, , Office of Healthy Homes and Lead Hazard Control.

Appendix A: Administrative Costs

Appendix B: Checklist and Submission Table of Contents and Applicable Forms

Appendix C: Other requirements

The standard forms applicable to the Office of Healthy Homes and Lead Hazard Control Operation LEAP application are included in this Appendix.

Appendices and Common Forms

Appendix A—Administrative Costs

I. Purpose

The intent of this HUD grant program is to allow the Grantee to be reimbursed for the reasonable direct and indirect costs, subject to a top limit, for overall management of the grant. In most circumstances the Grantee, whether a state or a local government, is expected to serve principally as a conduit to pass funding to sub-grantees, which are to be responsible for performance of the lead-hazard reduction work. Up to 10 percent of the federal funds may be used for administration. Such costs would include the costs associated with completing HUD reports, accounting and bookkeeping expenses, costs associated with obtaining audits, and other direct grant management expenses.

II. Administrative Costs: What They Are Not

For the purposes of this HUD grant program the term “administrative costs” should not be confused with the terms “general and administrative cost”, “indirect costs”, “overhead”, and “burden rate”. These are accounting terms, usually represented by a government-accepted standard percentage rate. The percentage rate allocates a fair share of an organization's costs that cannot be attributed to a particular project or department (such as the chief executive's salary or the costs of the organization's headquarters building) to all projects and operating departments (such as the Fire Department; the Police Department; the Community Development Department, the Health Department or this program). Such allocated costs are added to those projects' or departments' direct costs to determine their total costs to the organization.

III. Administrative Costs: What They Are

For the purposes of this HUD grant program, “Administrative Costs” are the Grantee's allowable direct costs for the overall management of the grant program plus the allocable indirect costs. The allowable limit of such costs that can be reimbursed under this program is ten (10) percent of the federal funds may be used for administration. Should the Grantee's actual costs for overall management of the grant program exceed ten (10) percent of the total federal funds, those excess costs shall be paid for by the Grantee. However, excess costs paid for by the Grantee may be shown as part of the requirement for cost-sharing funds to support the grant.

IV. Administrative Costs: Definition

A. General

Administrative costs are the allowable, reasonable, and allocable direct and indirect costs related to the overall management of the HUD grant for lead-hazard reduction activities. Those costs shall be segregated in a separate cost center within the Grantee's accounting system, and they are eligible costs for reimbursement as part of the grant, subject to the ten (10) percent limit. Such administrative costs do not include any of the staff and overhead costs directly arising from specific sub-grantee program activities eligible under this NOFA, because those costs are eligible for reimbursement under a separate cost center as a direct part of project activities.

The Grantee may elect to serve solely as a conduit to sub-grantees, who will in turn perform the direct program activities eligible under this NOFA, or the Grantee may elect to perform all or a part of the direct program activities in other parts of its own organization, which shall have their own segregated, cost centers for those direct program activities. In either case, not more than up to 10 percent of the federal funds may be used for administration. 10 percent of the total HUD award may be devoted to administrative costs, and not less than 90% of the total grant sum shall be devoted to direct program activities. Grantee shall take care not to mix or attribute administrative costs to the direct project cost centers.

B. Specific

Reasonable costs for the Grantee's overall grant management, coordination, monitoring, and evaluation are eligible administrative costs. Subject to the ten (10) percent limit, such costs include, but are not limited to, necessary expenditures for the following, goods, activities and services:

(1) Salaries, wages, and related costs of the Grantee's staff, the staff of affiliated agencies, or other staff engaged in Grantee's overall grant management activities. In charging costs to this category the recipient may either include the entire salary, wages, and related costs allocable to the program for each person whose primary responsibilities (more than 65% of their time) with regard to the grant program involve direct overall grant management assignments, or the pro rata share of the salary, wages, and related costs of each person whose job includes any overall grant management assignments. The Grantee may use only one of these two methods during this program. Overall grant management includes the following types of activities:

(a) Preparing Grantee program budgets and schedules, and amendments thereto;

(b) Developing systems for the selection and award of funding to sub-grantees and other sub-recipients;

(c) Developing suitable agreements for use with sub-grantees and other sub-recipients to carry out grant activities;

(d) Developing systems for assuring compliance with program requirements;

(e) Monitoring sub-grantee and sub-recipient activities for progress and compliance with program requirements;

(f) Preparing presentations, reports, and other documents related to the program for submission to HUD;

(g) Evaluating program results against stated objectives;

(h) Providing local officials and citizens with information about the overall grant program; (However, a more general education program, helping the public understand the nature of lead hazards, lead hazard reduction, blood-lead screening, and the health consequences of lead poisoning is a direct project support activity).

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to overall grant management such as overall-grant legal services, overall-grant accounting services, and overall-grant audit services;

(4) Other costs for goods and services required for and directly related to the overall management of the grant program, including such goods and services as telephone, postage, rental of equipment, renter's insurance for the program management space, utilities, office supplies, and rental and maintenance (but not purchase) of office space for the program.

BILLING CODE 4210-70-P

BILLING CODE 4210-70-C

Appendix C—Other Requirements; Guidance on Requirements Issues

Drug-Free Workplace

Background and Requirement

The applicant must make certifications and agreements to provide a drug-free workplace. If it is later determined that the applicant knowingly rendered a false certification, or otherwise violates the requirements of the Drug-Free Workplace Act, HUD, in addition to any other remedies available to the Federal Government, may take action authorized under the Drug-Free Workplace Act.

How Should You Respond to This Requirement?

Enclose with the application submission a completed copy of the Certification for a Drug-Free Workplace form.

Indicate the address of the worksite on the form. When completing this form, the applicant's office address should be considered the worksite.

You Should Include

The address of the worksite on the signed form.

Public Access to Application Material

Background and Requirement

Applications submitted in response to this NOFA are subject to disclosure under the Freedom of Information Act (FOIA) (5 U.S.C. 552 and HUD regulations at 24 CFR part 15). Application material, including any letters of support, will be made available for public inspection for a five-year period beginning not less than 30 days after the announcement of the awards.

HUD will publish in the Federal Register a notice listing all the recipients of HUD assistance awarded on a competitive basis under this NOFA.

HUD will make available to the public for five years all applicant disclosure reports (HUD Form 2880) submitted in connection with this NOFA.

The applicant may note, by clearly identifying or otherwise indicating those portions of your application, which information you believe should not be disclosed in the event of a FOIA request. While HUD will consider your advice in its determination whether to release the requested information, HUD is required by the FOIA to make an independent evaluation of that information. If you believe that confidential treatment is appropriate, the basis for this view should be provided where possible, because general assertions or blanket requests for confidentiality are not particularly helpful to HUD in making determinations concerning release of information under the Act.

It should also be noted that HUD is required to segregate disclosable information from non-disclosable items, so particular care should be taken in the identification of each portion for which confidential treatment is requested. Applicant views concerning confidentiality will be used solely to aid HUD in preparing its response to FOIA requests. Please note that the presence or absence of such comments or earmaking regarding confidential information will have no bearing whatsoever on the evaluation of your application submitted under this solicitation, nor will the absence of this earmarking automatically result in greater disclosure.

You should evaluate your proposal to determine if it contains any material that should be treated as confidential.

How Should You Respond?

Enclose with the application submission a completed copy of the HUD Form 2880 Applicant/Recipient Disclosure/Update Report.

All applicants must sign the HUD Form 2880.

You Should Include

A signed copy of the HUD Form 2880.

Prohibition Against Lobbying Activities

Background and Requirement

Applicants for funding under this NOFA are subject to the provisions of Section 319 of the Department of Interior and Related Agencies Appropriations Act for FY 1991 (31 U.S.C. 1352, the Byrd Amendment) and the lobbying Disclosure Act of 1995 (P.L. 104-65). The Byrd amendment, which is implemented in HUD regulations at 24 CFR 87, prohibits applicants for and recipients and sub-recipient of Federal contracts, grants, loans, cooperative agreements, and loan insurance or guarantees from using appropriated funds to attempt to influence Federal Executive or Legislative officers or employees in connection with obtaining such assistance, or with its extension, continuation, renewal, amendment, or modification.

In addition, applicants for and recipients and sub-recipients of Federal contracts, grants, loans, cooperative agreements, and loan insurance or guarantees above certain monetary amounts must file either a certification stating that they have not made and will not make any prohibited payments or a statement disclosing any prohibited payments or agreements to make such payments.

Requirement—The Lobbying Disclosure Act requires all persons and entities that lobby covered Executive or Legislative Branch officials to register with the Secretary of the Senate and the Clerk of the House of Representatives and file reports concerning their lobbying activities.

How Should You Respond to This Requirement?

If applicable, complete the Disclosure of Lobbying Activities—Form SF-LLL that is included in this application package. If not applicable, please indicate on the Checklist and Submission Table of Contents.

You Should Include

A signed copy of the Form SF-LLL (all pages must be signed) or statement that the form SF-LLL is not required.

Debarred and Suspended Applicants

Background and Requirement

HUD shall not award an assistance instrument to any applicant that is debarred, suspended, or otherwise excluded from or ineligible for participation in Federal assistance programs under Executive Order 12549. Prior to award, HUD shall check the General Services Administration's Lists of Parties Excluded from Federal Procurement and Non-procurement Programs. Any applicant found to be on that list shall be ineligible for an award under this NOFA.

How Should You Respond to This Requirement?

Enclose with the application submission a completed copy of the Certification regarding debarred or suspended applicants form.

Other Issues (No Response Is Required in Application)

Davis-Bacon Act—The Davis-Bacon Act does not apply to this program. However, if Lead Elimination Action Program funds are used in conjunction with other Federal programs in which prevailing wage rates apply, then Davis-Bacon provisions would apply to the extent required under the other Federal programs.

Prohibition Against Advance Information on Funding Decisions—HUD's regulation implementing section 103 of the Department of Housing and Urban Development Reform Act of 1989 (42 U.S.C. 3537a) (HUD Reform Act), codified at 24 CFR 4, applies to this funding competition. The requirements of the rule continue to apply until the announcement of the selection of successful applicants. HUD employees involved in the review of applications and in the making of funding decisions are prohibited from providing advance information to any person (other than an authorized employee of HUD) concerning funding decisions, or from otherwise giving any applicant an unfair competitive advantage. Persons who apply for assistance in this competition should confine their inquiries to the subject areas permitted under 24 CFR 4. Applicants or employees who have ethics-related questions should contact the HUD Office of Ethics (202) 708-3815 (this is not a toll-free number).

Procurement Standards—All grantees are governed by and should consult 24 CFR 85.40. Sections 84.41 through 84.48 set forth standards for use by recipients in establishing procedures for the procurement of supplies and other expendable property, equipment, real property and other services with Federal funds. These standards are furnished to ensure that such materials and services are obtained in an effective manner and in compliance with the provisions of applicable Federal statutes and executive orders. No additional procurement standards or requirements shall be imposed by HUD upon recipients, unless specifically required by Federal statute or executive order or approved by OMB.

Federalism Executive Order—The General Counsel, as the Designated Official under Section 8(a) of Executive Order 12612, Federalism, has determined that the policies and procedures contained in this NOFA will not have substantial direct effects on States or their political subdivisions, or the relationship between the Federal Government and the States, or the distribution of power and responsibilities among the various levels of government. Under this NOFA, grants will be made for the control of lead-based paint and lead-dust hazards in low-income, owner-occupied units and privately owned, low-income rental units. Although HUD encourages State and local governments to initiate or expand lead-based paint certification, testing, abatement, and financing programs, any action by a State or local government in these areas is voluntary. Because action is not mandatory, the NOFA does not impinge upon the relationships between the Federal Government, and State and local governments, and the notice is not subject to review under the Order.

Family Executive Order—The General Counsel, as the Designated Official under Executive Order 12606, The Family, has determined that this document will likely have a beneficial impact on family formation, maintenance and general well being. The NOFA, insofar as it controls lead-based paint hazards in privately owned housing, will assist in preserving decent housing stock for low-income resident families. Accordingly, since the impact on the family is beneficial, no further review is necessary.

Common Forms

The following forms are provided in this section

HUD 424 Application for Federal Assistance *

HUD-424-B Applicant Assurances and Certifications *

SF-424C Budget Summary for Competitive Grant Programs

HUD-2880 Applicant/Recipient Disclosure/Update Report *

SF-LLL Disclosure of Lobbying Activities *

* These forms are also available as fillable Adobe Reader (PDF) or Word (DOC) formats from the HUDClips Web site at www.hudclips.org (available from the HUD home page at www.hud.gov).

† These forms are also available as Excel (XLS) spreadsheets from the HUD Office of Healthy Homes and Lead Hazard Control Web site at www.hud.gov/offices/lead.

[FR Doc. 02-19595 Filed 8-2-02; 8:45 am]

BILLING CODE 4210-70-P